DEPARTMENT OF ENERGY

Federal Energy Regulatory Commission

[Docket Nos. CP11-1-000]

Pine Prairie Energy Center, LLC; Notice of Extension of Time Request

Take notice that on March 31, 2020, Pine Prairie Energy Center, LLC (Pine Prairie) requested that the Federal Energy Regulatory Commission (Commission) grant an extension of time, until May 18, 2023, to construct and place into service two underground storage caverns (Cavern Nos. 6 and 7) which are part of the Phase III Expansion portion of its Pine Prairie Energy Center facilities. The Phase III Expansion Project was authorized on May 19, 2011 and the Pine Prairie Energy Center was originally authorized on November 23, 2004.

Pine Prairie was initially required to construct the Phase III Expansion facilities and place them into service by May 19, 2014. On April 22, 2014, the Office of Energy Projects, by delegated order, extended the deadline through May 18, 2017. On March 28, 2017 the Office of Energy Projects, by delegated order, extended the deadline through May 18, 2020. Pine Prairie now requests a three-year extension of this deadline through May 18, 2023. To date, Pine Prairie has not been able to construct Cavern Nos. 6 and 7 because the required approvals from the Louisiana Department of Natural Resources have been delayed.

This notice establishes a 15-calendar day intervention and comment period deadline. Any person wishing to comment on the extension motion may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10). However, only motions to intervene from entities that were party to the underlying proceeding will be accepted.

As a matter of practice, the Commission itself generally acts on requests for extensions of time to complete construction for NGA facilities when such requests are contested before order issuance. For those extension requests that are contested,¹ the Commission acting as a whole will aim to issue an order acting on the request within 45 days.² The Commission will address all arguments relating to whether the applicant has demonstrated there is good cause to grant the extension. The Commission will not consider arguments that re-litigate the issuance of the certificate order, including whether the Commission properly found the project to be in the public convenience and necessity and whether the Commission's environmental analysis for the certificate complied with the National Environmental Policy Act.³ At the time a pipeline requests an extension of time, orders on certificates of public convenience and necessity are final and the Commission will not re-litigate their issuance. The OEP Director, or his or her designee, will act on all of those extension requests that are uncontested.

¹ Contested proceedings are those where an intervenor disputes any material issue of the filing. 18 CFR 385.2201(c)(1) (2019).

² Algonquin Gas Transmission, LLC, 170 FERC 61,144, at P 40 (2020).

³ Similarly, the Commission will not re-litigate the issuance of an NGA section 3 authorization, including whether a proposed project is not inconsistent with the public interest and whether the Commission's environmental analysis for the permit order complied with NEPA.

In addition to publishing the full text of this document in the Federal Register, the Commission provides all interested persons an opportunity to view and/or print the contents of this document via the internet through the Commission's Home Page (http://ferc.gov) using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the eFiling link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern Time on April 20, 2020.

Dated: April 3, 2020.
Nathaniel J. Davis, Sr.,
Deputy Secretary.

[FR Doc. 2020-07496 Filed 4-8-20; 8:45 am]

BILLING CODE 6717-01-P